DEPARTMENT OF HOMELAND SECURITY

Coast Guard

33 CFR Parts 110 and 165

[CGD01-04-006]

RIN 1625-AA00, AA01, AA08

Regulated Navigation Area, Anchorage Grounds, Safety and Security Zones; Tall Ships Environmental Festival, New London, Port of New London, CT

AGENCY: Coast Guard, DHS.

ACTION: Notice of proposed rulemaking.

SUMMARY: The Coast Guard proposes to establish a regulated navigation area, anchorage grounds, and safety and security zones in Niantic Bay, Long Island Sound, the Thames River and New London Harbor, for the Tall Ships Environmental Festival. These proposed regulations would provide for the safety of life and property on the navigable waters of the United States and for the security of participating tall ships during the Tall Ships Environmental Festival, New London, Connecticut. This action is intended to restrict vessel traffic in portions of Niantic Bay, Long Island Sound, the Thames River, and New London Harbor.

DATES: Comments and related material must reach the Coast Guard on or before June 14, 2004.

ADDRESSES: You may mail comments and related material to Planning/Waterways Management, Coast Guard Group/Marine Safety Office Long Island Sound, 120 Woodward Avenue, New Haven, CT 06512. Coast Guard Group/Marine Safety Office Long Island Sound maintains the public docket for this rulemaking. Comments and material received from the public, as well as documents indicated in this preamble as being available in the docket, will become part of this docket and will be available for inspection or copying at Group/Marine Safety Office Long Island Sound, New Haven, CT, between 9 a.m. and 3 p.m., Monday through Friday, except Federal holidays.

FOR FURTHER INFORMATION CONTACT: Lieutenant A. Logman, Waterways Management Officer, Coast Guard Group/Marine Safety Office Long Island Sound at (203) 468-4429.

SUPPLEMENTARY INFORMATION:

Request for Comments

We encourage you to participate in this rulemaking by submitting comments and related material. If you do so, please include your name and address, identify the docket number for this rulemaking (CGD01-04-006), indicate the specific section of this document to which each comment applies, and give the reason for each comment. Please submit all comments and related material in an unbound format, no larger than 8½ by 11 inches, suitable for copying. If you would like to know if your submission reached us, please enclose a stamped, self-addressed postcard or envelope. We will consider all comments and material received during the comment period. We may change the proposed rule in view of them.

We chose to publish this NPRM, and because of the closeness of the event, we anticipate making the final rule effective less than 30 days from publication in the Federal Register.

Public Meeting

We do not now plan to hold a public meeting, but you may submit a request for a meeting by writing to Coast Guard Group/Marine Safety Office Long Island Sound at the address under ADDRESSES explaining why one would be beneficial. If we determine that one would aid this rulemaking, we will hold one at a time and place announced by a later notice in the Federal Register.

Background and Purpose

The Port of New London, Connecticut will host the Tall Ships Environmental Festival from July 22 to 25, 2004. This visit of Class A, B and C sailing vessels is part of an annual series of sail training races, rallies, cruises and port festivals organized by the American Sail Training Association in conjunction with host ports in the United States (U.S.) and Canada. The Tall Ships visit to New London is being sponsored by the Tunza International Children's Conference on the Environment (ICCE) that will take place in New London, Connecticut from 19-23 July 2004. The Fifth International Children's Conference on the Environment, sponsored by the United Nations Environment Program, will host approximately 600 Children from 100 Countries to discuss issues of critical importance to the environment. Tied into the conference, the Tall Ships visit to New London will have a unique environmental focus.

The Tall Ships visit to New London, which will occur from July 22-25, will include a Parade of Sail on July 22, 2004. Approximately 30 Class A, B and C vessels are expected to participate in the Parade of Sail. These proposed regulations would provide for the safety of life and property on the navigable waters of the United States by preventing the large number of participating and spectator vessels from interfering with the organized Parade of Sail. There will be vessels participating in the event from several foreign countries and the high visibility of this event warrants that both safety and security zones be established to safeguard participating vessels, their crews and the maritime public from sabotage or other subversive acts, accidents, or other hazards of a similar nature.

Under the proposed regulations, the Tall Ships and participating vessels would anchor in Niantic Bay on July 21, 2004. On July 22, 2004, the Tall Ships and participating vessels will transit from Niantic Bay via Long Island Sound and the Thames River Federal Channel to the Port of New London. Most participating vessels will then berth at the Admiral Shear State Pier; some will also berth at City Pier in New London. Other piers in New London may also be utilized for this event, including Fort Trumbull State Park. The remainder of the vessels not participating in the Tall Ships Festival or otherwise berthing in the Port of New London are expected to sail back to Long Island Sound following their participation in the parade down the east side of the Channel.

The proposed regulations would create vessel movement controls, safety and security zones for the Parade of Sail and would create temporary anchorage regulations. The regulations would be in effect at various times in Niantic Bay, Long Island Sound, and New London Harbor on July 21 and July 22, 2004. Vessel congestion due to the large number of participating and spectator vessels poses a significant threat to the safety of life and property. This temporary rulemaking is necessary to ensure the safety of life and property on the navigable waters of the United States and to safeguard participating vessels, their crews and the maritime public from sabotage or other subversive acts, accidents, or other hazards of a similar nature.

Vessel transits may also be directed through the vessel operating restrictions imposed by 33 CFR 165.153. These regulations impose operating, inspection and reporting requirements for vessels and create regulated areas surrounding vessels in commercial service, including ferries.

Regulated Navigation Area

The Coast Guard proposes to establish temporary Regulated Navigation Area “A” (Area A) in Niantic Bay from July 21-22, 2004. The regulated area is needed to protect the maritime public and participating vessels from hazards to navigation associated with the overnight anchoring of a large number of tall ships and their departure prior to the beginning of the Parade of Sail into New London Harbor on July 22, 2004.

Area A includes all waters of Niantic Bay located on Long Island Sound within the following boundaries: Beginning at a point 300 yards, bearing 203 deg. T from Wigwam Rock 41°18′53″N, 072°11′48″ W, then to 41°18′53″ N, 072°10′38″ W, then to 41°16′40″ N, 072°10′38″ W, then to 41°16′40″ N, 072°11′48″ W. All coordinates are North American Datum (NAD) 1983. This proposed regulated area would be effective from 6 a.m. July 21, 2004 to 2 p.m. July 22, 2004.

Vessels transiting Area A must do so at no wake speed or at speeds not to exceed 6 knots, whichever is less. Vessels transiting Area A must not maneuver within 100 yards of a tall ship or other vessel participating in the Tall Ships Environmental Festival, unless authorized by the Captain of the Port (COTP) or the COTP's on-scene representative. On-scene representatives are commissioned, warrant, and petty officers of the U.S. Coast Guard.

Anchorage Regulations

The Coast Guard, upon the consent of the Chief of Engineers, Army Corps of Engineers, Concord, MA, is proposing to establish temporary Anchorage regulations for participating Tall Ships Environmental Festival vessels and spectator craft. Under the proposed regulations, current Anchorage Ground regulations in Title 33 Code of Federal Regulations (CFR) § 110.147 would be temporarily suspended and other Anchorage Grounds would be temporarily established.

The proposed temporary anchorage regulations would designate selected current or temporarily established anchorage grounds for spectator or Tall Ships Environmental Festival participant vessel use only. They restrict all other vessels from using these anchorage grounds during various portions of the Tall Ships Environmental Festival event. The anchorage grounds are needed to provide viewing areas for spectator vessels while maintaining a clear parade route for the participating Tall Ships Environmental Festival vessels and to protect boaters and spectator vessels from the hazards associated with the Parade of Sail.

The Coast Guard proposes to temporarily suspend Anchorage C, located at 33 CFR § 110.147(a)(3); redesignating the same location as Anchorage G, making it exclusively for spectator vessels exceeding 50 feet in length, carrying passengers for the viewing of the Parade of Sail. Under the proposed regulations, Anchorage G would be established from 7:30 a.m. until 2 p.m., on July 22, 2004.

The Coast Guard would temporarily establish Anchorage J exclusively for spectator vessels exceeding 50 feet in length carrying passengers for the viewing of the Parade of Sail. Anchorage J includes all waters of the Thames River southward of New London Harbor, on the east side of the Federal Channel, within the following boundaries: Beginning at a point bearing 245°T, 480 yards from Eastern Point, 41°19′03″ N, 072°04′48″ W, then to position 41°18′42″ N, 072°04′30″ W, then to position 41°18′40″ N, 072°04′45″ W. All coordinates are North American Datum (NAD) 1983. Anchorage J would be established from 7:30 a.m. until 2 p.m. on July 22, 2004.

The Coast Guard would temporarily establish Anchorage H in Niantic Bay exclusively for the vessels participating in the Parade of Sail. Anchorage H would be established from 6 a.m. on July 21, 2004 until 2 p.m. on July 22, 2004. Anchorage H is the same area designated as the proposed Regulated Navigation Area. Therefore, within this area, vessels other than those participating in the Tall Ships Environmental Festival would not be permitted to anchor and must transit at reduced speeds staying at least 100 yards away from any Tall Ships Environmental Festival participants.

The Coast Guard proposes to temporarily establish Anchorage I in the Thames River in the vicinity of the State Pier exclusively for vessels who have participated in the Parade of Sail which are awaiting berthing availability. Anchorage I would be established from 7:30 a.m. until 2 p.m. on July 22, 2004.

Anchorage I would be located on all waters of the Thames River in New London Harbor, in the vicinity of the State Pier within the following boundaries: Beginning at a point located on the west shoreline of the Thames River 25 yards below the Thames River Railroad Bridge, position 41°21′46″ N, 072°05′23″ W, then to position 41°21′46″ N, 072°05′16″ W then south along the western limit of the Federal Channel to position 41°20′37″ N, 072°05′87″ W, then to position 41°20′37″ N, 072°05′33″ W, then along the shoreline to position 41°21′46″ N, 072°05′23″ W. All coordinates are North American Datum (NAD) 1983.

Safety and Security Zones

The Coast Guard proposes to establish two safety and security zones for the Tall Ships event. Safety and Security Zone 1 would be established by reference to fixed coordinates. Safety and Security Zone 1 would be utilized around the Parade of Sail route and includes all waters of the Thames River in New London Harbor in the vicinity of the State Pier within the following boundaries: Beginning at a point located on the west shoreline of the Thames River 25 yards below Thames River Railroad Bridge, position 41°21′46″ N, 072°05′23″ W, then east to position 41°21′46″ N, 072°05′16″ W, then south along the western limit of the Federal Channel to position 41°20′37″ N, 072°05′87″ W, then west to position 41°20′37″ N, 072°05′33″ W, then along the shoreline to the starting position, 41°21′46″ N, 072°05′23″ W. This safety and security zone would be used as a mooring and turning area for the Parade of Sail participants as the participants conclude the parade and is effective from 7:30 a.m. until 2 p.m. on July 22, 2004. Safety and Security Zone 1 consists of the same area as Anchorage I.

Safety and Security Zone 2 covers all waters of the Thames River within the following boundaries: Beginning at the east side of the Federal Channel at the Thames River Rail Road Bridge in the Port of New London, in position 41°21′47″ N, 072°05′14″ W, then southward along the east side of the Federal Channel to the New London Harbor Channel Lighted Buoy “2” (LLNR 21790) in approximate position 41°17′38″ N, 072°04′40″ W, then to Bartlett Reef Lighted Bell Buoy “4” (LLNR 21065) in approximate position 41°15′38″ N, 072°08′22″ W, then north to Bartlett Reef Buoy “1” (LLNR 21758) in approximate position 41°16′28″ N, 072°07′54″ W, then to an area located, bearing 192 degrees true, approximately 325 yards from Rapid Rock Buoy “R” (LLNR 21770) 41°17′07″ N, 072°06′09″ W, then to position 41°18′04″ N, 072 °04′50″ W, which meets the west side of the Federal Channel, then along the west side of the Federal Channel to the Thames River Railroad Bridge in the Port of New London, in the position 41°21′46″ N, 072°05′23″ W. This area will be used for the parade route of Tall Ships and is effective from 7:30 a.m. until 2 p.m., on July 22, 2004. All coordinates are North American Datum (NAD) 1983. Safety and Security Zone 2 encompasses a permanent Anchorage in New London Harbor, Anchorage A, located at 33 CFR § 110.147(a)(1). Anchorage A is designated for barges and small vessels drawing less than 12 feet. Use of this anchorage would be contrary to the purposes of establishing this safety and security zone. Anchorage A would therefore be suspended during the effective period of Safety and Security Zone 2. The proposed safety and security zones have been tailored to fit the needs of safety while minimizing the impact on the maritime community.

No vessel may enter, remain in, or transit within Safety and Security Zones 1 or 2 unless authorized by the Coast Guard Captain of the Port, Long Island Sound or his on-scene representative as described above. Each person or vessel in a safety zone shall obey any direction or order of the COTP.

The proposed safety and security zone regulations may be enforced and punishable by the terms set forth by 33 U.S.C. 1232 and 50 U.S.C. 192 accordingly. Enforcement of violations of these regulations may include, in addition to any civil and criminal penalties authorized by 33 U.S.C. 1232 and 50 U.S.C. 192, in rem liability against the offending vessel as well as license sanctions against the offending mariner. This regulation is proposed under the authority contained in Title 33 United States Code (U.S.C.) 1223 and 1225, 50 U.S.C. 191, and the regulations promulgated thereunder.

Regulatory Evaluation

This proposed rule is not a “significant regulatory action” under section 3(f) of Executive Order 12866, Regulatory Planning and Review and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary. Although this regulation would prevent traffic from transiting a portion of Long Island Sound, Niantic Bay, and the Thames River during the event, the potential impacts will be minimized for the following reasons: the anchorage grounds, regulated area, and safety and security zones only encompass a small portion of the Thames River, New London Harbor and Niantic Bay, respectively, allowing sufficient room for vessels to operate or anchor outside of the areas; the anchorage grounds, regulated area, and safety/security zones are of limited duration; commercial traffic would be allowed to proceed in a single direction in the Thames River Navigation Channel; there will be extensive advanced notifications made to the maritime community via the Local Notice to Mariners, facsimile, marine information broadcasts, local area committee meetings, and New London area newspapers. Mariners would be able to adjust their plans accordingly based on the extensive advance information. Additionally, the regulated area, anchorage grounds, safety and security zones have been narrowly tailored to impose the least impact on maritime interests yet provide the level of safety and protection deemed necessary.

Small Entities

Under the Regulatory Flexibility Act (5 U.S.C. 601-612), we have considered whether this proposed rule would have a significant economic impact on a substantial number of small entities. The term “small entities” comprises small businesses and not-for-profit organizations that are independently owned and operated and are not dominant in their fields and governmental jurisdictions with populations of less than 50,000.

The Coast Guard certifies under 5 U.S.C. 605(b) that this proposed rule would not have a significant economic impact on a substantial number of small entities. This proposed rule may affect the following entities, some of which may be small entities: the owners or operators of vessels intending to transit through Niantic Bay, portions of Long Island Sound, and New London Harbor on 21 and 22 July 2003. Although these proposed regulations apply to a substantial portion of Niantic Bay and New London Harbor, designated areas for viewing the Parade of Sail have been established to allow for maximum use of the waterways by commercial tour boats that usually operate in the affected areas. Vessels, including commercial traffic, will be able to transit around the designated areas. Although vessel traffic will only be permitted to operate in one direction at a time on the Thames River, at no time will the Port of New London be closed to commercial traffic. Before the effective period, the Coast Guard will make notifications to the public via Local Notice to Mariners and broadcast notice to mariners. In addition, the sponsoring organization, ICCE, is planning to publish information of the event in local newspapers and other media outlets.

If you think that your business, organization, or governmental jurisdiction qualifies as a small entity and that this rule would have a significant economic impact on it, please submit a comment (see ADDRESSES) explaining why you think it qualifies and how and to what degree this rule would economically affect it.

Assistance for Small Entities

Under subsection 213(a) of the Small Business Regulatory Enforcement Fairness Act of 1996 [Pub. L. 104-121], the Coast Guard wants to assist small entities in understanding this proposed rule so that they can better evaluate its effects on them and participate in the rulemaking. If the proposed rule would affect your small business, organization, or governmental jurisdiction and you have questions concerning its provisions or options for compliance, please call Lieutenant A. Logman, Waterways Management Officer, Group/Marine Safety Office Long Island Sound, at (203) 468-4429.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not concern an environmental risk to health or risk to safety that may disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that order because it is not a “significant regulatory action” under Executive Order 12866, is not likely to have a significant adverse effect on the supply, distribution, or use of energy, and has not been designated by the Administrator of the Office of Information and Regulatory Affairs as a significant energy action. Therefore, it does not require a Statement of Energy Effects under Executive Order 13211.

Environment

The Coast Guard considered the environmental impact of this proposed rule and concluded that, under figure 2-1, paragraphs 34 (f) and (g), of Commandant Instruction M16475.1D, this proposed rule is categorically excluded from further environmental documentation as long as the Coast Guard meets the conditions outlined in the “Categorical Exclusion Determination” document. The “Categorical Exclusion Determination” is available in the docket where indicated under ADDRESSES.

List of Subjects

33 CFR part 110

Anchorage grounds.

33 CFR part 165

Harbors, Marine safety, Navigation (water), Reporting and Recordkeeping requirements, Security measures, Waterways.

For the reasons discussed in the preamble, the Coast Guard proposes to amend 33 CFR Parts 110 and 165 as follows:

PART 110—ANCHORAGE REGULATIONS

1. The authority citation for part 110 continues to read as follows:

Authority: 33 U.S.C. 471, 1221 through 1236, 2030, 2035 and 2071; 33 CFR 1.05-1(g); Department of Homeland Security Delegation No. 0170.1.

2. From 7:30 a.m. to 2 p.m. on July 22, 2004, in § 110.147 paragraphs (a)(1) and (a)(3) are temporarily suspended.

3. From 6 a.m. on July 21, 2004, until 2 p.m. on July 22, 2004, temporarily add § 110.T01-008 to read as follows:

§ 110.T01-008 Anchorage Grounds: Tall Ships Environmental Festival; Port of New London, Connecticut

(a) Anchorage grounds. (1)(i) Anchorage G. In the Thames River southward of New London Harbor, bounded by lines connecting a point bearing 100°, 450 yards from New London Harbor Light, a point bearing 270°, 575 yards from New London Ledge Light (latitude 41°18′21″ N, longitude 72°04′41″ W), and a point bearing 270°, 1450 yards from New London Ledge Light. All coordinates are North American Datum 1983.

(ii) Enforcement period. This paragraph will be enforced from 7:30 a.m. until 2 p.m. on July 22, 2004.

(2)(i) Anchorage H. All waters of Niantic Bay located on Long Island Sound bounded as follows: Beginning at a point 300 yards, bearing 203 deg. T from Wigwam Rock 41°18′53″ N, 072°11′48″ W, then to 41°18′53″ N, 072°10′38″ W, then to 41°16′40″ N, 072°10′38″ W, then to 41°16′40″ N, 072°11′48″ W. All coordinates are North American Datum 1983.

(ii) Enforcement period. This paragraph will be enforced from 6 a.m. on July 21, 2004, until 2 p.m. on July 22, 2004.

(3)(i) Anchorage I. All waters of the Thames River in New London Harbor, in the vicinity of the State Pier within the following boundaries: Beginning at a point located on the west shoreline of the Thames River 25 yards below the Thames River Railroad Bridge, position 41°21′46″ N, 072°05′23″ W, then to position 41°21′46″ N, 072°05′16″ W (NAD 1983), then south along the western limit of the Federal Channel to position 41°20′37″ N, 072°05′8.7″ W, then to position 41°20′37″ N, 072°05′33″ W, then along the shoreline to position 41°21′46″ N, 072°05′23″ W. All coordinates are North American Datum 1983.

(ii) Enforcement period. This paragraph will be enforced from 7:30 a.m until 2 p.m. on July 22, 2004.

(4)(i) Anchorage J. All waters of the Thames River southward of New London Harbor, on the east side of the Federal Channel within the following boundaries: Beginning at a point bearing 245 deg. T, 480 yards from Eastern Point 41°19′03″ N, 072°04′48″ W, then to position 41°19′04″ N, 072°04′33″ W, then to position 41°18′42″ N, 072°04′30″ W, then to position 41°18′40″ N, 072°04′45″ W. All coordinates are North American Datum 1983.

(ii) Enforcement period. This paragraph will be enforced from 7:30 a.m. until 2 p.m. on July 22, 2004.

(b) Regulations. (1) Anchorage G. This anchorage is designated for the exclusive use of spectator vessels exceeding 50 feet in length carrying passengers for the viewing of the Tall Ships parade.

(2) Anchorage H. This anchorage is designated exclusively for the use of vessels participating in the Parade of Tall Ships into New London Harbor.

(3) Anchorage I. This anchorage is designated for the exclusive use of vessels participating in the Parade of Tall Ships into New London Harbor.

(4) Anchorage J. This anchorage is designated for the exclusive use of commercial vessels greater than 50 feet in length carrying passengers for the viewing of the Tall Ships parade.

PART 165—REGULATED NAVIGATION AREAS AND LIMITED ACCESS AREAS

4. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

5. From 7:30 a.m until 2 p.m. on July 22, 2004, temporarily add § 165.T01-006 to read as follows:

§ 165.T01-006 Safety and Security Zones: Tall Ships Environmental Festival; Port of New London, Connecticut.

(a) Regulated area. The following areas are established as Safety and Security Zones:

(1) Safety and Security Zone 1. All waters of the Thames River in New London Harbor, in the vicinity of the State Pier within the following boundaries: Beginning at a point located on the west shoreline of the Thames River 25 yards below the Thames River Railroad Bridge, position 41°21′46″ N, 072°05′23″ W, then south along the western limit of the Federal Channel to position 41°20′37″ N, 072°05′87″ W, then to position 41°20′37″ N, 072°05′33″ W, then along the shoreline to position 41°21′46″ N, 072°05′23″ W.

(2) Safety and Security Zone 2. All waters of the Thames River and Long Island Sound within the following boundaries: Beginning at the east side of the Federal Channel at the Thames River Rail Road Bridge in the Port of New London, in position 41°21′47″ N, 072°05′14.0″ W, then southward along the east side of the Federal Channel to the New London Harbor Channel Lighted Buoy “2” (LLNR 21790) in approximate position 41°17′38″ N, 072°04′40″ W, then to Bartlett Reef Lighted Bell Buoy “4” (LLNR 21065) in approximate position 41°15′38″ N, 072°08′22″ W, then north to Bartlett Reef Lighted Buoy “1” (LLNR 21758) in approximate position 41°16′28″ N, 072°07′54″ W, then to an area located, bearing 192 degrees true, approximately 325 yards from Rapid Rock Buoy “R” (LLNR 21770) 41°17′07″ N, 072°06′09″ W, then to position 41°18′04″ N,072°04′50″ W, which meets the west side of the Federal Channel, then along the west side of the Federal Channel to the Thames River Railroad Bridge in the Port of New London, in the position 41°21′46″ N, 072°05′23″ W. (b) Regulations. No vessel may transit within Safety and Security Zone 1 or 2 without the express authorization of the Coast Guard Captain of the Port, Long Island Sound, or his on-scene representative. All persons and vessels shall comply with the instructions of the Coast Guard Captain of the Port or the designated on-scene patrol personnel. These personnel comprise commissioned, warrant, and petty officers of the Coast Guard. Upon being hailed by siren, radio, flashing light, or other means, the operator of the vessel shall proceed as directed.

(c) Effective period. This section is effective from 7:30 a.m. until 2 p.m. on July 22, 2004.

6. From 6 a.m. on July 21, 2004, until 2 p.m. on July 22, 2004, temporarily add § 165.T01-007 to read as follows:

§ 165.T01-007 Regulated Navigation Area: Tall Ships Environmental Festival, CT, Long Island Sound and the Thames River, Connecticut.

(a) Regulated Navigation Area A. The following area is a Regulated Navigation Area: All waters of Niantic Bay located on Long Island Sound bounded as follows: Beginning at a point 300 yards, bearing 203 deg. T from Wigwam Rock 41°18′53″ N, 072°11′48″ W, then to 41°18′53″ N, 072°10′38″ W, then to 41°16′40″ N, 072°10′38″ W, then to 41°16′40″ N, 072°11′48″ W. All coordinates are North American Datum 1983.

(b)(1) Vessels transiting Regulated Navigation Area A must do so at no wake speed or at speeds not to exceed 6 knots, whichever is less.

(2) Vessels transiting Regulated Navigation Area A must not maneuver within 100 yards of a Tall Ship or a Tall Ships Environmental Festival participating vessel unless they are specifically authorized to do so by Coast Guard Captain of the Port, Long Island Sound, or his on-scene representative.

(c) Effective period. This section is effective from 6 a.m., July 21, 2004 until 2 p.m., on July 22, 2004.

Dated: May 2, 2004.
Vivien S. Crea,
Rear Admiral, U.S. Coast Guard, Commander, First Coast Guard District.

[FR Doc. 04-10812 Filed 5-12-04; 8:45 am]

BILLING CODE 4910-15-P